NATIONAL AERONAUTICS AND SPACE ADMINISTRATION

[Notice (10-130)]

Notice of Information Collection.

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 60 days from the date of this publication.

ADDRESSES: All comments should be addressed to Lori Parker, National Aeronautics and Space Administration, Washington, DC 20546-0001.

FOR FURTHER INFORMATION CONTACT: Requests for additional information or copies of the information collection instrument(s) and instructions should be directed to Lori Parker, NASA Clearance Officer, NASA Headquarters, 300 E Street, SW., JF000, Washington, DC 20546, (202) 358-1351, Lori.Parker@nasa.gov.

SUPPLEMENTARY INFORMATION:

I. Abstract

This collection is required by NASA FAR Supplement clause 1852.219-85 and supports recertification of eligibility of compliance with SBIR/STTR program requirements.

II. Method of Collection

The SBIR/STTR contractor may submit the required recertification electronically, unless the cognizant NASA Contracting Officer requirements the recertification to be submitted via hard copy. Approximately 50% of the responses are collected electronically.

III. Data

Title: SBIR/STTR Contractor Recertification.

OMB Number: 2700-0124.

Type of Review: Revision of currently approved collection.

Affected Public: Business or other for-profit.

Estimated Number of Respondents: 423.

Estimated Time per Response: 0.50 hr.

Estimated Total Annual Burden Hours: 212.

Estimated Total Annual Cost: $0.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Lori Parker,
NASA PRA Clearance Officer.

[FR Doc. 2010-25806 Filed 10-13-10; 8:45 am]

BILLING CODE P